NATIONAL CREDIT UNION ADMINISTRATION

Sunshine Act; Notice of Agency Meeting

Time and Date: 10 a.m., Thursday, October 27, 2011

Place: Board Room, 7th Floor, Room 7047, 1775 Duke Street (All visitors must use Diagonal Road Entrance), Alexandria, VA 22314-3428.

Status: Open.

Matters To Be Considered

1. Final Rule—Part 705 of NCUA's Rules and Regulations, Community Development Revolving Loan Fund Access for Credit Unions.

2. Insurance Fund Report.

Recess: 11:15 a.m.

Time and Date: 11:30 a.m., Thursday, October 27, 2011.

Place: Board Room, 7th Floor, Room 7047, 1775 Duke Street, Alexandria, VA 22314-3428.

Status: Closed.

Matters To Be Considered

1. Consideration of Supervisory Activities (4). Closed pursuant to some or all of the following: exemptions (8), (9)(A)(ii) and 9(B).

2. Merger Request Pursuant to Part 708b of NCUA's Rules and Regulations. Closed pursuant to exemption (8).

FOR FURTHER INFORMATION CONTACT: Mary Rupp, Secretary of the Board, Telephone: 703-518-6304.

Mary Rupp,
Board Secretary.

[FR Doc. 2011-27614 Filed 10-20-11; 4:15 pm]

BILLING CODE 7535-01-P